DEPARTMENT OF JUSTICE

Notice of Extension of Comment Period on Proposed Consent Decree Under the Clean Water Act

Notice is hereby given that the comment period on the proposed Consent Decree (“Consent Decree”) in United States of America et al. v. City of Revere, Massachusetts, Civil Action No. 1:10-cv-11460 (D.Mass), is being extended until November 1, 2010. The original notice of the proposed Consent Decree, which summarizes the settlement, was published in the Federal Register on August 31, 2010, Vol. 75, No. 168, Pg. 53342. Comments should be addressed to the Assistant Attorney General, Environment and Natural Resources Division, United States Department of Justice, and either e-mailed to pubcomment-ees.enrd@usdoj.gov or mailed to P.O. Box 7611, United States Department of Justice, Washington, DC 20044-7611, and should refer to United States of America et al. v. City of Revere, Massachusetts, D.J. Ref. 90-5-1-1-09299.

The Consent Decree may be examined at the Office of the United States Attorney, One Courthouse Way, John Joseph Moakley Courthouse, Boston, Massachusetts 02210, and at U.S. EPA Region 1, Office of Regional Counsel, 5 Post Office Square, Suite 100, Boston, Massachusetts 02109. During the public comment period, the Consent Decree may also be examined on the following Department of Justice Web site, http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check to cover the 25 cents per page reproduction costs in the amount of $16.25 (for Decree without appendix) or $71.75 (for Decree with appendix) payable to the U.S. Treasury or, if by e-mail or fax, forward a check in that amount to the Consent Decree Library at the stated address.

Maureen Katz,
Assistant Chief, Environmental Enforcement Section, Environment and Natural Resources Division.

[FR Doc. 2010-23736 Filed 9-22-10; 8:45 am]

BILLING CODE 4410-15-P